Proclamation 8521 of May 12, 2010

World Trade Week, 2010

By the President of the United States of America

A Proclamation

For our Nation to compete and win in the 21st century, we must rebuild our economy on a stronger, more balanced foundation. Part of that effort will require us to boost our exports, which are critical for our long-term prosperity and which support millions of American jobs. World Trade Week is an opportunity for us to reaffirm the importance of trade to our Nation’s continued economic recovery and growth.

Our Nation is still emerging from an unprecedented economic crisis. Millions of Americans have lost their jobs and millions more remain underemployed, limited to part-time work or odd jobs. To help them, we must do all we can to spur job creation and restore economic security. Producing and exporting more goods and services is essential to strengthening our ability to compete for customers outside our borders.

My Administration is proud to launch the National Export Initiative, a comprehensive strategy to promote American exports. This initiative brings senior Government officials together with leaders from the private sector to increase trade opportunities for businesses of all sizes, including individual entrepreneurs. To ensure American companies have free and fair access to global markets, we are enforcing existing trade agreements, addressing issues in pending agreements, and forging new ones that protect our businesses, workers, consumers, and environment. We are also opening new markets and encouraging development with trade preference programs. These steps will bring us closer to accomplishing the ambitious goal I set in this year’s State of the Union address to double our Nation’s exports over the next five years.

As we pursue measures to safeguard our future prosperity, we must remember that we still have the most innovative and productive workers in the world. We have the most dynamic and competitive economy, and we remain the top exporter of goods and services. As other nations and markets grow, our leadership will not be guaranteed. Yet, our success has never been guaranteed. It has been forged through decades of hard work, ingenuity, optimism, and common purpose.

This week, let us renew the enduring principles that have driven our Nation to the forefront of human progress. With our ships, trucks, trains, planes, and fiber optic lines, we will send our goods and services to every corner of the globe. Together, we will make this new century an American century yet again, and secure a bright future for generations to come.

NOW, THEREFORE, I, BARACK OBAMA, President of the United States of America, by virtue of the authority vested in me by the Constitution and the laws of the United States, do hereby proclaim May 16 through May 22, 2010, as World Trade Week. I encourage all Americans to observe this week with events, trade shows, and educational programs that celebrate the benefits of trade to our Nation, American workers, and the global economy.

IN WITNESS WHEREOF, I have hereunto set my hand this fourteenth day of May, in the year of our Lord two thousand ten, and of the Independence of the United States of America the two hundred and thirty-fourth.

[FR Doc. 2010-12264

Filed 5-19-10; 8:45 am]

Billing code 3195-W0-P